DEPARTMENT OF TRANSPORTATION

Federal Aviation Administration

Fifty Eighth Meeting: RTCA Special Committee 135, Environmental Conditions and Test Procedures for Airborne Equipment

AGENCY: Federal Aviation Administration (FAA), Department of Transportation (DOT).

ACTION: Notice of Joint RTCA Special Committee 135: Environmental Conditions and Test Procedures for Airborne Equipment.

SUMMARY: The FAA is issuing this notice to advise the public of a meeting of RTCA Special Committee 135: Environmental Conditions and Test Procedures for Airborne Equipment

DATES: The meeting will be held October 20, 2011 from 9 a.m.-5 p.m.

ADDRESSES: The meeting will be held at RTCA, Inc., 1150 18th Street, NW., Suite 910, Washington, DC, 20036.

FOR FURTHER INFORMATION CONTACT: (1) RTCA Secretariat, 1150 18th Street, NW., Suite 910, Washington, DC, 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a RTCA Special Committee 135: Environmental Conditions and Test Procedures for Airborne Equipment.

The agenda will include:

Thursday, October 20, 2011

• 9 a.m.-5 p.m.

• Chairmen's Opening Remarks, Introductions.

• Approval of Summary from Fifty-Seventh Meeting (RTCA Paper No. 166-11/SC 135-685).

• Review Approved Revised SC135 TOR (Terms of Reference)—Environmental Conditions and Test Procedures for Airborne Equipment—(RTCA Paper No. 067-11/PMC-887).

• Review Proposed User's Guides.

• Review Working Group Activities.

• New or unfinished business.

• Establish Date for Next SC-135 Meeting.

• Adjourn.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, September 19, 2011.
Robert L. Bostiga,
Manager, RTCA Advisory Committee.

[FR Doc. 2011-24637 Filed 9-23-11; 8:45 am]

BILLING CODE 4910-13-P